DEPARTMENT OF AGRICULTURE

Natural Resources Conservation Service

Sandy River, Kennebec River Watershed, Madison, ME

AGENCY: Natural Resources Conservation Service, USDA.

ACTION: Notice of availability of Finding of No Significant Impact.

SUMMARY: The Natural Resources Conservation Service (NRCS) has adopted the Environmental Assessment (EA), prepared by the Federal Energy Regulatory Commission (FERC) in April, 2006, for the Sandy River Project, Madison, Maine (FERC Project No. 11433-016). Upon an independent review of the EA document, NRCS found that the removal of the Sandy River Project dam would not result in a significant impact on the quality of the human environment, particularly when focusing on the significant adverse effects that NEPA is intended to help decision makers avoid and mitigate against. Therefore, NRCS has prepared a Finding of No Significant Impact (FONSI) in compliance with the National Environmental Policy Act (NEPA), as amended, and gives notice that an environmental impact statement is not being prepared.

FOR FURTHER INFORMATION CONTACT: Single copies of the EA and FONSI documents, may be obtained by contacting Mr. Kevin White, District Conservationist, USDA-NRCS, 12 High Street, Suite 3, Skowhegan, ME 04976-1998, (207) 474-8324. For additional information related to this notice, contact Joyce Swartzendruber, State Conservationist, Natural Resources Conservation Service, 967 Illinois Avenue, Suite 3, Bangor, ME 04401-2700; telephone (207) 990-9100, Ext. 3. Comments on the EA and FONSI must be received no later than 30 days after this notice is published.

EFFECTIVE DATE: June 9, 2006.

SUPPLEMENTARY INFORMATION: The sponsoring local organization, Madison Electric Works, concurs with this determination and agrees with carrying forward the proposed project. The objective of the sponsoring local organization is to remove a hydroelectric dam to provide passage for migrating anadromous fish, including Atlantic Salmon and Atlantic Shad.

The FONSI has been forwarded to the Federal Energy Regulatory Agency and to various Federal, State and local agencies and interested parties.

No administrative action on implementation of the proposed action will be taken until 30 days after the date of this publication in the Federal Register.

Dated: May 31, 2006.
Joyce A. Swartzendruber,
State Conservationist.

[FR Doc. E6-8842 Filed 6-6-06; 8:45 am]

BILLING CODE 3410-16-P